DEPARTMENT OF ENERGY

Federal Energy Regulatory Commission

[Project No. 13160-004]

Red River Hydro LLC; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Major License.

b. Project No.: 13160-004.

c. Date filed: May 24, 2012.

d. Applicant: Red River Hydro LLC (Red River), a wholly-owned subsidiary of Symbiotics LLC.

e. Name of Project: Overton Lock and Dam Hydroelectric Project.

f. Location: The project would be located on the Red River in Rapides Parish, Louisiana at an existing lock and dam owned and operated by the U.S. Corps of Engineers (Corps). The project would occupy 38.7 acres of federal lands managed by the Corps.

g. Filed Pursuant to: Federal Power Act 16 U.S.C. 791(a)-825(r).

h. Applicant Contact: Mr. Brent L. Smith, Chief Operating Officer, Symbiotics LLC 371 Upper Terrace, Suite 2, Bend, OR 97702; Telephone (541) 330-8779.

i. FERC Contact: Lesley Kordella, (202) 502-6406 or Lesley.Kordella@ferc.gov.

j. Deadline for filing comments, terms and conditions, recommendations, and prescriptions: 60 days from the issuance date of this notice; reply comments are due 105 days from the issuance date of this notice.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is ready for environmental analysis.

l. The proposed project would be located at an existing lock and dam owned and operated by the Corps-Vicksburg District. The existing lock and dam are part of the J. Bennett Johnston Waterway, which was authorized by Congress in 1968 to stabilize river banks, straighten river bends, and maintain a 9-foot-deep, 200-foot-wide channel for boat traffic. The waterway consists of five locks and dams and a number of cutoffs to shorten the river.

The existing Overton Dam is a concrete gravity structure that is 104 feet in height and 914 feet in length. The spillway consists of five 60-foot-wide Tainter gates. The navigation lock is 84 feet wide by 685 feet long. The primary purpose of the Corps' lock and dam system is navigation. The upper pool above the dam is commonly referred to as “Pool 2,” and the Corps maintains it at an elevation of 64 feet NGVD. Pool 2 has a surface area of approximately 3,750 acres and a storage capacity of about 67,500 acre-feet at an elevation of 64 feet NGVD.

The proposed Overton Lock and Dam Project would consist of: (1) A powerhouse located on the southwest bank of the river at the existing dam's right abutment; (2) a headrace; (3) a tailrace; (4) a switchyard; (5) 3.9 miles of 138-kilovolt (kV) above-ground transmission line; (6) three turbine-generator units for a combined installed capacity of 78 megawatts; and (7) appurtenant facilities. The projected annual energy generation would be 255.7 gigawatt-hours.

The project would operate in a run-of-release mode by utilizing releases from Pool 2 as they are dictated by the Corps, with no proposed change to the Corps' operation. In addition, no changes to the reservoir pool elevations or downstream river flows are proposed. The project would generate power using flows between 2,700 and 49,800 cubic feet per second (cfs). If flows are less than 2,700 cfs, all flow would go through the Corps' gates, and the project would then be offline. When flows are greater than 49,800 cfs, the excess flow would be directed through the Corps' gates.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST” or “MOTION TO INTERVENE,” “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon the representative of the applicant. A copy of all other filings must be accompanied by proof of service on all persons listed in the service list prepared by the Commission in this proceeding, in accordance with 18 CFR 4.34(b) and 385.2010.

o. Procedural Schedule:

The application will be processed according to the following Hydro Licensing Schedule. Revisions to the schedule may be made as appropriate.

Milestone | Target date
Filing of recommendations, preliminary terms and conditions, and preliminary fishway prescriptions | November 2012.
Commission issues EA | March 2013.
Comments on EA or EIS | April 2013.
Modified terms and conditions | June 2013.

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification.

r. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Dated: September 7, 2012.
Kimberly D. Bose,
Secretary.

[FR Doc. 2012-22669 Filed 9-13-12; 8:45 am]

BILLING CODE 6717-01-P